DEPARTMENT OF HOUSING AND URBAN DEVELOPMENT

24 CFR Part 214

[Docket No. 6215-C-04]

RIN 2502-ZA34

Housing Counseling Program: Revision of the Certification Timeline; Correction

AGENCY: Office of General Counsel, HUD.

ACTION: Final rule; correction.

SUMMARY: HUD published the Housing Counseling Program final rule on December 4, 2020, following a previous interim rule published on August 5, 2020. HUD publishes in the Federal Register a HUD docket number for each of its rules. This docket number does not get published in the Code of Federal Regulations, but is a number internal to HUD and provides a sequence number and a letter indicating whether the item is a proposed (P), interim final (I), or final (F) rule, notice (N) or correction (C). HUD is correcting two errors in the final rule published on December 4, 2020—the docket number for the December 4, 2020 final rule and a date referenced in the section of the December 4, 2020 rule that discusses the public comment that HUD received on the interim rule. These corrections do not affect the substance of the rule.

DATES: This correction is effective December 14, 2020.

FOR FURTHER INFORMATION CONTACT: Aaron Santa Anna, Associate General Counsel, Office of Legislation and Regulation, Office of General Counsel, Department of Housing and Urban Development, 451 7th Street SW, Room 10282, Washington, DC 20410; telephone number 202-708-1793 (this is not a toll-free number). Individuals with hearing or speech impediments may access this number via TTY by calling the Federal Relay Service during working hours at 1-800-877-8339 (this is a toll-free number).

SUPPLEMENTARY INFORMATION:

In FR Doc. 2020-26194 appearing on page 78230 in the Federal Register on Friday, December 4, 2020, the following corrections are made:

Corrections

1. On page 78230, in the third column, correct the docket number immediately below the CFR part number to read “[Docket No. FR-6215-F-03]”.

2. On page 78231, in the center column, under the heading “II. The Public Comments,” correct the first sentence to read “The public comment period for the interim rule closed on September 4, 2020.”

Aaron Santa Anna,
Associate General Counsel, Office of Legislation and Regulations.

[FR Doc. 2020-27145 Filed 12-11-20; 8:45 am]

BILLING CODE 4210-67-P